DEPARTMENT OF LABOR

Office of the Secretary

Submission for OMB Review; Comment Request

February 26, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 219-8904 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Employment Standards Administration (ESA).

Title: Certification of Funeral Expenses.

OMB: 1215-0027.

Affected Public: Business or other for-profit.

Frequency: On Occasion.

Number of Annual Respondents: 195.

Number of Annual Responses: 195.

Estimated Time Per Response: 15 minutes.

Total Burden Hours: 49.

Total Annualized Capital/Startup Costs: $0.

Total Annual Costs (operation/maintaining systems or purchasing services): $0.

Description: Section 9(a) of the Longshore and Harbor Workers' Compensation Act provides that reasonable funeral expenses not to exceed not to exceed $3,000 shall be paid in all compensable death cases. Form LS-265 has been provided for use in submitting the funeral expenses for payment. The information collected by this form is incorporated into a compensation order at the time death benefits are ordered paid in a case. It it also used to certify the amount of funeral expenses incurred in the case. if the information were not collected, payable funeral expenses could not be determined.

Type of Review: Extension of a currently approved collection.

Agency: Employment Standards Administration (ESA).

Title: Comparability of Current Work to Coal Mine Employment; (2) Coal Mine Employment Affidavit; (3) Affidavit of Deceased Miner's Condition.

OMB Number: 1215-0056.

Affected Public: Individuals or households.

Frequency: On Occasion.

Responses and Estimated Burdens:

Form | Annual responses | Per response (min.) | Total burden hours
CM-913 | 1,500 | 30 | 750
CM-918 | 6,000 | 10 | 17
CM-1093 | 5,000 | 20 | 33
Total | 26,000 |  | 800

Total Annualized Capital/Startup Costs: $0.

Total Annual Costs (operating/maintaining systems or purchasing services): $1,200.96.

Description: The Black Lung Benefits Act of 1977, as amended, 30 U.S.C. 901 et seq., provides for the payment of benefits to coal miners who have contracted black lung disease as a result of coal mine employment, and their dependents and survivors. Once a miner has been identified as having performed non-coal mine work subsequent to coal mine employment, the miner or the miner's survivor is asked to complete Form CM-913 to compare coal mine work to non-coal mine work. This employment, along with medical information, is used to establish whether the miner is totally disabled due to black lung disease caused by coal mine employment. Form CM-918 is an affidavit used to gather coal mine employment evidence only when primary evidence, such as pay stubs, W-2 forms, employer and union records, and Social Security records are unavailable or incomplete. Form CM-1093 is an affidavit form for recording lay medical evidence, used in survivor's claims in which evidence of the miner's medical condition is insufficient. For each of these forms (CM-913, CM-918, and CM-1093), the information is collected only if needed at the time the claim is received. If the information were not collected on these forms, the determination as to eligibility for benefits under the Black Lung Benefits Act would be severely limited.

Ira L. Mills,
Departmental Clearance Officer.

[FR Doc. 02-5415 Filed 3-6-02; 8:45 am]

BILLING CODE 4510-CF-M